DEPARTMENT OF TRANSPORTATION

Federal Motor Carrier Safety Administration

[Docket No. FMCSA-2007-28523]

Agency Information Collection Activities; Revision of an Approved Information Collection: Request for Revocation of Authority Granted

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. This information collection notifies the FMCSA of a voluntary request by a motor carrier, freight forwarder, or property broker to amend or revoke its registration of authority granted. On April 3, 2007, FMCSA published a Federal Register notice allowing for a 60-day comment period on the ICR. No comments were received by the agency.

DATES: Please send your comments by October 11, 2007. OMB must receive your comments by this date in order to act quickly on the ICR.

ADDRESSES: You may submit comments to the Office of Information and Regulatory Affairs, Office of Management and Budget, 725 Seventeenth Street, NW., Washington, DC 20503, Attention: DOT/FMCSA Desk Officer.

FOR FURTHER INFORMATION CONTACT: Stephanie Haller, Supervisory Transportation Specialist, Commercial Enforcement Division, Department of Transportation, Federal Motor Carrier Safety Administration, West Building 6th Floor, 1200 New Jersey Avenue, SE., Washington, DC 20590. Telephone: 202-385-2362; e-mail stephanie.haller@dot.gov.

SUPPLEMENTARY INFORMATION: Title: Request for Revocation of Authority.

OMB Control Number: 2126-0018.

Type of Request: Revision of a currently-approved information collection.

Form Number: OCE-46.

Respondents: Motor carriers, freight forwarders and property brokers.

Estimated Number of Respondents: 3,250.

Estimated Time per Response: 15 minutes.

Expiration Date: September 30, 2007.

Form: OCE-46.

Frequency of Response: On occasion.

Estimated Total Annual Burden: 813 hours [3,250 annual Form OCE-46 filers × 15 minutes/60 minutes per filing = 812.5 hours, rounded to 813 hours].

Background: Title 49 of the United States Code (U.S.C.) authorizes the Secretary of Transportation (Secretary) to promulgate regulations governing the registration of for-hire motor carriers of regulated commodities (49 U.S.C. 13902), surface transportation freight forwarders (49 U.S.C. 13903), and property brokers (49 U.S.C. 13904). The FMCSA carries out this registration program under authority delegated by the Secretary. Under 49 U.S.C. 13905, each registration is effective from the date specified and remains in effect for such period as the Secretary determines appropriate by regulation. Section 13905(c) of title 49, U.S.C., grants the Secretary the authority to amend or revoke a registration at the registrant's request. On complaint, or on the Secretary's own initiative, the Secretary may also suspend, amend, or revoke any part of the registration of a motor carrier, broker, or freight forwarder for willful failure to comply with the regulations, an order of the Secretary, or a condition of its registration.

Form OCE-46 is used by transportation entities to voluntarily apply for revocation of their registration authority in whole or in part. FMCSA uses the form to seek information concerning the registrant's docket number, name and address, and the reasons for the revocation request.

Public Comments Invited: You are asked to comment on any aspect of this information collection, including: (1) Whether the proposed collection is necessary for performance of FMCSA's functions; (2) the accuracy of the estimated burden; (3) ways for the FMCSA to enhance the quality, usefulness, and clarity of the collected information; and (4) ways that the burden could be minimized without reducing the quality of the collected information.

Issued on: August 31, 2007.
Michael S. Griffith,
Acting Associate Administrator for Research and Information Technology.

[FR Doc. E7-17812 Filed 9-10-07; 8:45 am]

BILLING CODE 4910-EX-P